SECURITIES AND EXCHANGE COMMISSION

[OMB Control No. 3235-0728]

Agency Information Collection Activities; Proposed Collection; Comment Request; Extension: Rule 17ab2-2

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (SEC or “Commission”) is soliciting comments on the proposed collection of information provided for in Rule 17ab2-2 (17 CFR 240.17ab2-2) under the Securities Exchange Act of 1934 (15 U.S.C. 78a et seq.). The Commission plans to submit this existing collection of information to the Office of Management and Budget (“OMB”) for extension and approval.

Exchange Act Rule 17ab2-2 establishes procedures for making determinations affecting covered clearing agencies in certain defined circumstances. Exchange Act Rule 17ab2-2(a) establishes procedures for the Commission to make a determination, either of its own initiative or upon application by any clearing agency or member of a clearing agency, whether a covered clearing agency is systemically important in multiple jurisdictions. Exchange Act Rule 17ab2-2(b) establishes procedures to determine, if the Commission deems appropriate, whether any of the activities of a clearing agency providing central counterparty services, in addition to clearing agencies registered with the Commission for the purpose of clearing security-based swaps, have a more complex risk profile. Exchange Act Rule 17ab2-2(c) provides a procedure for the Commission to determine, either of its own initiative or upon application by any clearing agency or member of a clearing agency, whether to rescind any such determinations previously made by the Commission.

A clearing agency or one of its members that seeks a determination from the Commission under Rule 17ab2- or rescission of any determination previously made by the Commission under Rule 17ab2-2 must submit an application to the Commission. A respondent would have the burden of preparing such application for submission to the Commission. The Commission would use the information in the collection to facilitate its determination regarding systemic importance in multiple jurisdictions or a recission of a determination. It is unlikely that confidential information would be included in the collection of information, but such information received would be kept confidential subject to provisions of the Freedom of Information Act.

Commission staff believes that Rule 17ab2-2 would impose a PRA burden on a clearing agency that applies for a determination from the Commission under the rule. Commission staff estimate that two respondent clearing agencies (or a member of a clearing agency) could submit an application for such a determination.

Commission staff estimates that each respondent clearing agency incurs a one-time burden of 10 hours and a one-time cost of $2,190 to draft and review a determination request submitted to the Commission, for a total of 20 hours and $4,380 for all respondents. The total annualized burden and cost for all respondents are 6.66 hours and $1,460.

An agency may not conduct or sponsor, and a person is not required to respond to, a collection of information unless it displays a currently valid OMB Control Number.

Written comments are invited on: (a) whether this proposed collection of information is necessary for the proper performance of the functions of the SEC, including whether the information will have practical utility; (b) the accuracy of the SEC's estimate of the burden imposed by the proposed collection of information, including the validity of the methodology and the assumptions used; (c) ways to enhance the quality, utility, and clarity of the information to be collected; and (d) ways to minimize the burden of the collection of information on respondents, including through the use of automated, electronic collection techniques or other forms of information technology.

Please direct your written comments on this 60-Day Collection Notice to Austin Gerig, Director/Chief Data Officer, Securities and Exchange Commission, c/o Tanya Ruttenberg via email to PaperworkReductionAct@sec.gov by January 23, 2026. There will be a second opportunity to comment on this SEC request following the Federal Register publishing a 30-Day Submission Notice.

Dated: November 19, 2025.
Sherry R. Haywood,
Assistant Secretary.

[FR Doc. 2025-20679 Filed 11-21-25; 8:45 am]

BILLING CODE 8011-01-P